DEPARTMENT OF THE INTERIOR

National Park Service

[NPS-WASO-NRNHL-0411-7204; 2280-665]

National Register of Historic Places; Notification of Pending Nominations and Related Actions

Nominations for the following properties being considered for listing or related actions in the National Register were received by the National Park Service before April 16, 2011. Pursuant to § 60.13 of 36 CFR Part 60, written comments are being accepted concerning the significance of the nominated properties under the National Register criteria for evaluation. Comments may be forwarded by United States Postal Service, to the National Register of Historic Places, National Park Service, 1849 C St., NW., MS 2280, Washington, DC 20240; by all other carriers, National Register of Historic Places, National Park Service,1201 Eye St., NW., 8th floor, Washington DC 20005; or by fax, 202-371-6447. Written or faxed comments should be submitted by May 16, 2011. Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

ALABAMA

Montgomery County

Montgomery Greyhound Bus Station, 210 S. Court St., Montgomery, 11000298

ARIZONA

Pima County

Gordon House, 6225 N. Camino Escalante, Tucson, 11000299

ARKANSAS

Faulkner County

Lasley's College Apartments, 1916 & 1922 Bruce St., Conway, 11000300

Logan County

Booneville Methodist Episcopal Church South, 355 N. Broadway, Booneville, 11000301

Prairie County

Wingmead, W. side of AR 33, ½ mi. S. of Eason Rd., Roe, 11000302

White County

Missouri Pacific Railway Caboose #928, Next to UPRR on Market St., SW. of Vine St., Bald Knob, 11000303

Woodruff County

Mathis—Hyde House, 400 N. 2nd St., Augusta, 11000304

CONNECTICUT

Hartford County

Freshwater Plantation, Bounded by Alden Ave., Enfield & Franklin Sts. & Connecticut R., Enfield, 11000305

MARYLAND

Carroll County

Koons, Jacob, Farm, 1151 Otterdale Mill Rd., Taneytown, 11000306

MASSACHUSETTS

Norfolk County

Fuller Brook Park, Dover Rd. to Maugus Ave., Wellesley, 11000307

MICHIGAN

Ontonagon County

Ontonagon School, 301 Greenland Rd., Ontonagon, 11000308

Wayne County

Detroit Yacht Club, 1 Riverbank Rd., Belle Isle, Detroit, 11000309

PENNSYLVANIA

Philadelphia County

United States Custom House, 200 Chestnut St., Philadelphia, 11000310

WISCONSIN

Waukesha County

Visitation Convent Complex, 13105 Watertown Plank Rd., Elm Grove, 11000311

[FR Doc. 2011-10346 Filed 4-28-11; 8:45 am]

BILLING CODE 4312-51-P